ENVIRONMENTAL PROTECTION AGENCY

[EPA-HQ-OAR-2007-0269; FRL-8496-4]

Agency Information Collection Activities; Submission to OMB for Review and Approval; Comment Request; Transportation Conformity Determinations for Federally Funded and Approved Transportation Plans, Programs and Projects, EPA ICR No. 2130.03, OMB Control No. 2060-0561

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to revise and renew an existing approved Information Collection. The ICR, which is abstracted below, describes the nature of the information collection and its estimated burden and cost.

DATES: Additional comments may be submitted on or before December 17, 2007.

ADDRESSES: Submit your comments, referencing Docket ID No. EPA-HQ-OAR-2007-0269, to (1) EPA online using http://www.regulations.gov (our preferred method), or by mail to EPA Docket Center, Environmental Protection Agency, Air and Radiation Docket, Mailcode 2822T, 1200 Pennsylvania Ave., NW., Washington, DC 20460, and (2) OMB by mail to: Office of Information and Regulatory Affairs, Office of Management and Budget (OMB), 725 17th Street, NW., Washington, DC 20503, Attention: Desk Officer for EPA.

FOR FURTHER INFORMATION CONTACT: Patty Klavon, State Measures and Conformity Group, Transportation and Regional Programs Division, U.S. Environmental Protection Agency, 2000 Traverwood Drive, Ann Arbor, MI 48105; telephone number: (734) 214-4476; fax number: (734) 214-4052; e-mail address: klavon.patty@epa.gov.

SUPPLEMENTARY INFORMATION: EPA has submitted the following ICR to OMB for review and approval according to the procedures prescribed in 5 CFR 1320.12. On July 19, 2007 (72 FR 39620), EPA sought comments on this ICR pursuant to 5 CFR 1320.8(d). EPA received no comments. Any comments on this ICR should be submitted to EPA and OMB within 30 days of this notice.

EPA has established a public docket for this ICR under Docket ID No. EPA-HQ-OAR-2007-0269, which is available for online viewing at http://www.regulations.gov, or in person viewing at the Air Docket in the EPA Docket Center (EPA/DC), EPA West, Room 3334, 1301 Constitution Ave., NW., Washington, DC. The EPA/DC Public Reading Room is open from 8 a.m. to 4:30 p.m., Monday through Friday, excluding legal holidays. The telephone number for the Reading Room is (202) 566-1744, and the telephone number for the Air Docket is (202) 566-1742.

Use EPA's electronic docket and comment system at http://www.regulations.gov to submit or view public comments, access the index listing of the contents of the docket, and access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information (CBI), or other information whose public disclosure is restricted by statute. For further information about the electronic docket, go to http://www.regulations.gov.

Title: Transportation Conformity Determinations for Federally Funded and Approved Transportation Plans, Programs and Projects (Renewal).

ICR number: EPA ICR No. 2130.03, OMB Control No. 2060-0561.

ICR status: This ICR is scheduled to expire on December 31, 2007. Under OMB regulations, the Agency may continue to conduct or sponsor the collection of information while this submission is pending at OMB. An Agency may not conduct or sponsor, and a person is not required to respond to a collection of information unless it displays a currently valid OMB control number. The OMB control numbers for EPA's regulations in title 40 of the CFR, after appearing in the Federal Register when approved, are listed in 40 CFR Part 9.

Abstract: Transportation conformity is required under Clean Air Act section 176(c) (42 U.S.C. 7506(c)) to ensure that federally supported transportation activities are consistent with (“conform to”) the purpose of the state air quality implementation plan (SIP). Transportation activities include transportation plans, transportation improvement programs (TIPs), and federally funded or approved highway or transit projects. Conformity to the purpose of the SIP means that transportation activities will not cause new air quality violations, worsen existing violations, or delay timely attainment of the relevant national ambient air quality standards (NAAQS or “standards”).

Transportation conformity applies, under EPA's conformity regulations at 40 CFR part 93, subpart A, to areas that are designated nonattainment and those redesignated to attainment after 1990 (“maintenance areas” with plans developed under Clean Air Act section 175A) for the following transportation-related criteria pollutants: Ozone, particulate matter (PM2.5 and PM10), carbon monoxide (CO), and nitrogen dioxide (NO2). The EPA published the original transportation conformity rule on November 24, 1993 (58 FR 62188), and subsequently published several revisions. EPA develops the conformity regulations in coordination with the Federal Highway Administration and the Federal Transit Administration.

Transportation conformity determinations are required before federal approval or funding is given to certain types of transportation planning documents as well as non-exempt highway and transit projects.¹

¹ Some projects are exempt from all or certain conformity requirements, see 40 CFR 93.126, 93.217, and 93.128.

EPA considered the following in renewing the existing ICR:

• Burden estimates for transportation conformity determinations in current 8-hour ozone and PM2.5 nonattainment and maintenance areas, which made up EPA ICR 2130.02;

• Burden estimates for conformity determinations for CO, NO2, and PM10, which were previously included in the Department of Transportation's (DOT) ICR for Metropolitan and State-wide Transportation Planning (OMB Control Number 2132-0529); ²

² EPA, in consultation with DOT, concluded that it would be advantageous to join transportation conformity burden estimates for all pollutants into one ICR.

• Efficiencies associated with the Safe, Accountable, Flexible, Efficient Transportation Equity Act: A Legacy for Users (SAFETEA-LU), which was signed into law on August 10, 2005;

• Burden estimates for hypothetical areas that may be designated nonattainment for the revised 24-hour PM2.5 standard, which EPA promulgated on October 17, 2006 (71 FR 61144);

• Differences in conformity resource needs in large and small metropolitan areas and isolated rural areas; and

• Additional burden associated with EPA's adequacy review process for submitted SIP motor vehicle emissions budgets that are to be used in conformity determinations.

This ICR does not include burden associated with the general development of transportation planning and air quality planning documents for meeting other federal requirements.

Burden Statement: The annual public reporting and recordkeeping burden for this collection of information is estimated to average 5 hours per response.

Burden means the total time, effort, or financial resources expended by persons to generate, maintain, retain, or disclose or provide information to or for a federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: States and local governments.

Estimated Number of Respondents: 177.

Frequency of Response: Occasionally.

Estimated Total Annual Hour Burden: 52,304.

Estimated Total Annual Cost: $2,873,060, which includes no capital or O&M costs.

Changes in the Estimates: There is an increase of 22,890 hours in the total estimated state and local respondent burden compared with that identified in the ICR currently approved by OMB. This increase reflects the following adjustments and program changes:

• Program change associated with transfer of DOT ICR (OMB #2132-0529) to EPA ICR 2130.03.

• Adjustments associated with the implementation of transportation conformity revisions from SAFETEA-LU.

• Reduced burden from the previous ICR, which included substantial start-up burden for areas that had never done transportation conformity prior to PM2.5 and 8-hour ozone nonattainment designations. These areas now have experience with conformity.

• Other factors that have been updated since the existing ICR was approved.

Dated: October 8, 2007.
Sara Hisel-McCoy,
Director, Collection Strategies Division.

[FR Doc. 07-5712 Filed 11-15-07; 8:45 am]

BILLING CODE 6560-50-P